DEPARTMENT OF COMMERCE

Bureau of Industry and Security

Order Temporarily Denying Export Privileges

SkyTechnic, Kiyevskoye Shosse 22-Y, Moskovsky Settlement, Moscow, Russia 108811;

Skywind International Limited, Room 2403A 24/F Lippo CTR Tower One, 89 Queensway, Admiralty, Hong Kong;

Hong Fan International, Shop 102, Level 1, One Exchange Square, Hong Kong;

AND

Room A 11/F Henfa Commercial Building, 348-350 Lockhart Road, Hong Kong;

AND

Vistra Corporate Services Centre, Wickhams Cay II, Road Town, Tortola, British Virgin Islands;

Lufeng Limited, Room A 11/F Henfa Commercial Building, 348-350 Lockhart Road, Hong Kong;

AND;

Vistra Corporate Services Centre, Wickhams Cay II, Road Town, Tortola, British Virgin Islands;

Unical dis Ticaret Ve Lojistik JSC, 34140 Zeytinlik Mh. Halcki Sk, Iten Han Gue Carsi Blok No 28/58, Bakirkoy, Istanbul, Turkey;

AND

Room A 11/F Henfa Commercial Building, 348-350 Lockhart Road, Hong Kong;

Izzi Cup DOO, Koste Cukia 14, Zemun 200915, Serbia;

AND

Jl.Danau Tondano No. 55, 80228 Sanur—Bali, Indonesia;

Alexey Sumchenko, Hong Kong;

Anna Shumakova, Russia;

Branimir Salevic, Koste Cukia 14, Zemun 200915, Serbia;

AND

Jl.Danau Tondano No. 55, 80228 Sanur—Bali, Indonesia;

Danijela Salevic, Koste Cukia 14, Zemun 200915, Serbia;

AND

Jl.Danau Tondano No. 55, 80228 Sanur—Bali, Indonesia

Pursuant to section 766.24 of the Export Administration Regulations, 15 CFR parts 730-774 (“EAR” or “the Regulations”),¹ the Bureau of Industry and Security (“BIS”), U.S. Department of Commerce, through its Office of Export Enforcement (“OEE”), has requested the issuance of an Order temporarily denying, for a period of 180 days, the export privileges under the Regulations of: Alexey Sumchenko (“Sumchenko”), Anna Shumakova (“Shumakova”), Branimir Salevic (“Branimir”), Danijela Salevic (“Danijela”); SkyTechnic, Skywind International Limited (“Skywind”), Hong Fan International (“Hong Fan”), Lufeng Limited (“Lufeng”), Unical dis Ticaret Ve Lojistik LSC (“Unical”), and Izzi Cup DOO (“Izzi Cup”) (collectively, the “Respondents”). OEE's request and related information indicate that these parties are located in the Russian Federation, Hong Kong, the British Virgin Islands, Turkey, Serbia, and Indonesia at the respective addresses listed on the caption page of this order. OEE's request and related information further indicates that SkyTechnic, a Russian aircraft parts supplier, has developed and continues to utilize a network of Hong Kong-based shell companies, including Skywind, Hong Fan, and Lufeng, to obtain civil aircraft parts from the United States and obfuscate the ultimate end users of those parts in Russia, contrary to the requirements of the Regulations.

¹ The Regulations, currently codified at 15 CFR parts 730-774 (2021), originally issued pursuant to the Export Administration Act (50 U.S.C. 4601-4623 (Supp. III 2015) (“EAA”), which lapsed on August 21, 2001. The President, through Executive Order 13222 of August 17, 2001 (3 CFR, 2001 Comp. 783 (2002)), as extended by successive Presidential Notices, continued the Regulations in effect under the International Emergency Economic Powers Act (50 U.S.C. 1701, et seq. (2012)) (“IEEPA”). On August 13, 2018, the President signed into law the John S. McCain National Defense Authorization Act for Fiscal Year 2019, which includes the Export Control Reform Act of 2018, 50 U.S.C. 4801-4852 (“ECRA”). While section 1766 of ECRA repeals the provisions of the EAA (except for three sections which are inapplicable here), section 1768 of ECRA provides, in pertinent part, that all orders, rules, regulations, and other forms of administrative action that were made or issued under the EAA, including as continued in effect pursuant to IEEPA, and were in effect as of ECRA's date of enactment (August 13, 2018), shall continue in effect according to their terms until modified, superseded, set aside, or revoked through action undertaken pursuant to the authority provided under ECRA. Moreover, section 1761(a)(5) of ECRA authorizes the issuance of temporary denial orders.

I. Legal Standard

Pursuant to section 766.24, BIS may issue an order temporarily denying a respondent's export privileges upon a showing that the order is necessary in the public interest to prevent an “imminent violation” of the Regulations. 15 CFR 766.24(b)(1) and 766.24(d). “A violation may be `imminent' either in time or degree of likelihood.” 15 CFR 766.24(b)(3). BIS may show “either that a violation is about to occur, or that the general circumstances of the matter under investigation or case under criminal or administrative charges demonstrate a likelihood of future violations.” Id. As to the likelihood of future violations, BIS may show that the violation under investigation or charge “is significant, deliberate, covert and/or likely to occur again, rather than technical or negligent[.]” Id. A “[l]ack of information establishing the precise time a violation may occur does not preclude a finding that a violation is imminent, so long as there is sufficient reason to believe the likelihood of a violation.” Id.

II. OEE's Request for a Temporary Denial Order (“TDO”)

The U.S. Commerce Department, through BIS, responded to the Russian Federation's (“Russia's”) further invasion of Ukraine by implementing a sweeping series of stringent export controls that severely restrict Russia's access to technologies and other items that it needs to sustain its aggressive military capabilities. These controls primarily target Russia's defense, aerospace, and maritime sectors and are intended to cut off Russia's access to vital technological inputs, atrophy key sectors of its industrial base, and undercut Russia's strategic ambitions to exert influence on the world stage.

Effective February 24, 2022, BIS imposed expansive controls on aviation-related (e.g., Commerce Control List Categories 7 and 9) items to Russia, including a license requirement for the export, reexport or transfer (in-country) to Russia of any aircraft or aircraft parts specified in Export Control Classification Number (“ECCN”) 9A991 (section 746.8(a)(1) of the EAR).² BIS will review any export or reexport license applications for such items under a policy of denial. See section 746.8(b). Effective March 2, 2022, BIS excluded any aircraft registered in, owned, or controlled by, or under charter or lease by Russia or a national of Russia from being eligible for license exception Aircraft, Vessels, and Spacecraft (“AVS”) (section 740.15 of the EAR).³

² 87 FR 12226 (Mar. 3, 2022). Additionally, BIS published a final rule effective April 8, 2022, which imposed licensing requirements on items controlled on the Commerce Control List (“CCL”) under Categories 0-2 that are destined for Russia or Belarus. Accordingly, now all CCL items require export, reexport, and transfer (in-country) licenses if destined for or within Russia or Belarus. 87 FR 22130 (Apr. 14, 2022).

³ 87 FR 13048 (Mar. 8, 2022).

In its request, OEE presented evidence indicating that the Respondents seek to procure various U.S.-origin commodities, including certain aircraft parts classified as ECCN 9A991.d, and transship them to Russia without seeking the required authorization from BIS, contrary to the requirements in the Regulations. Some of the parties to the transactions facilitated by Respondents included denied persons on the BIS Denied Persons List (“DPL”), which are parties prohibited from participating in exports from the United States and other activities subject to the Regulations. Specifically, within months of the BIS comprehensive export controls on Russia, SkyTechnic began using the Skywind, Hong Fan, and Lufeng aliases in Hong Kong in an effort to conceal its Russian connections and transship U.S. aircraft parts through Hong Kong to Russia.

A. Alexey Sumchenko

Business records list Sumchenko as the owner of Skywind, Hong Fan, and Lufeng. Furthermore, bank records show that in February 2023, Sumchenko directed a third company to pay Lufeng approximately $450,000 for services rendered to Skywind.

B. Anna Shumakova

U.S. visa information reveals that Shumakova is a Russian national. Social media lists Shumakova as the head of a logistics and material department in Russia. Correspondence indicates that Shumakova coordinated the purchase and export of aircraft parts for SkyTechnic, Skywind, Hong Fan, and Lufeng after the February 24, 2022 implementation of BIS controls on the export of aircraft parts to Russia.

C. Izzi Cup DOO and Branimir and Danijela Salevic

Izzi Cup is a Serbian-registered company that brokers transactions of aircraft parts, including aircraft parts from the United States, for SkyTechnic. The company owner, Branimir Salevic (“Branimir”), lives in and operates the business from Indonesia. By at least mid-May 2022, Izzi Cup knew that its brokered transactions were ultimately destined to Russia via transshipment points and advised SkyTechnic on how to address its shipment without obvious linkages to Russia. In February 2023, Export Enforcement (“EE”) personnel emailed Izzi Cup about several aircraft parts shipments. Branimir responded and informed EE personnel that Izzi Cup is a mom-and-pop shop.⁴ U.S. visa records indicate that Danijela is Branimir's wife and that she conducted business for Izzi Cup. Branimir and Danijela coordinated with Shumakova to circumvent U.S. export controls by shipping aircraft parts to Russia on several occasions without BIS authorization.

⁴ Small business owned and operated by a husband-and-wife team are colloquially referred to as “mom-and-pop shops.”

D. SkyTechnic/Skywind/Hong Fan/Lufeng

Following the Russian invasion of the Ukraine, and the resultant implementation of BIS export controls affecting the Russian aviation industry, the respondents engaged in a transnational scheme—involving multiple companies—to ship aircraft parts to Russia in circumvention of BIS export controls. One of the companies, SkyTechnic, is an aircraft parts company based in Moscow, Russia. In March 2022, Shumakova—on behalf of SkyTechnic—contacted a freight-forwarder about ways to ship aircraft parts from the United States to Russia despite the United States' export control restrictions.

In May-June 2022, Shumakova asked Izzi Cup whether she—on behalf of SkyTechnic— could purchase aircraft parts using Russian bank accounts and have the parts shipped to Russia. Izzi Cup responded that it could facilitate the transaction if Shumakova amended her order to reflect Skywind—which had a non-Russian address—as the purchaser. Izzi Cup also asked Shumakova to provide non-Russian contact information to accompany her order.

By May 2022, SkyTechnic began using Hong Kong as a transshipment point for aircraft parts from the United States that were ultimately bound for Russia. In May 2022, Shumakova, acting on behalf of both SkyTechnic and Skywind, informed a freight forwarder that Skywind would complete purchases on behalf of Pobeda Airlines.⁵

⁵ Pobeda Airlines is itself the subject of a TDO. The first TDO against Pobeda Airlines was effective upon its issuance on June 24, 2022 and published in the Federal Register on June 29, 2022 (87 FR 38707). The TDO has been renewed three times and the last renewal, which is effective for one year, was published in the Federal Register on December 14, 2023 (88 FR 86628).

By June 2022, SkyTechnic began using the business name Hong Fan, a company owned by Sumchenko, to facilitate further exports of aircraft parts from the United States. Although Hong Fan is a company registered in Hong Kong, its website is hosted in Russia. In October 2022, Hong Fan attempted to ship aircraft parts, meant for a company called Euro Asia,⁶ to the Maldives. In November 2022, Hong Fan coordinated with a freight forwarder to ship aircraft parts that were ultimately destined to Pobeda Airlines, LLC. The associated invoice was issued by SkyTechnic.

⁶ Euro Asia's website previously advertised a sales relationship with Aeroflot-Russian Airlines (“Aeroflot”). Aeroflot is itself the subject of a TDO. The first TDO against Aeroflot was effective upon its issuance on April 7, 2022 and published in the Federal Register on April 12, 2022 (87 FR 21611). The TDO has been renewed three times and the last renewal, which is effective for one year, was published in the Federal Register on September 28, 2023 (88 FR 19609).

SkyTechnic also used another alias, Lufeng, in its diversionary scheme. Like Hong Fan, Lufeng is owned by Sumchenko and registered in Hong Kong. Similarly, Lufeng's electronic contact information is of Russian origin.⁷ In June 2022, Shumakova—on behalf of SkyTechnic—requested a quote for aircraft parts from Izzi Cup. Danijela responded for Izzi Cup and upon negotiating the purchase, Shumakova asked Izzi Cup to instead issue an invoice to Lufeng. Additionally, correspondence reflects Lufeng referred to Izzi Cup as its supplier.

⁷ Additionally, Hong Fan and Lufeng share an address in the British Virgin Islands and Hong Kong.

E. Unical

Unical is an Istanbul, Turkey-based logistics company that has facilitated shipments of aircraft parts to SkyTechnic. SkyTechnic, Hong Fan, and Lufeng also purchased aircraft parts from Unical, a company whose website is hosted in Turkey but also has electronic contact information of Russian origin. Correspondence, and an associated January 2023 invoice, reflects that Unical sold aircraft parts to SkyTechnic and shipped the parts to Russia. Additionally, communications occurring between February and March 2023 show Unical negotiating the purchase of aircraft parts from a repair facility within the United States. The parts were transshipped through Turkey before ultimately being delivered to Aeroflot in Russia, on behalf of SkyTechnic. The transaction was invoiced to Hong Fan.

F. Ongoing and Pending Exports

As detailed in OEE's request and related information, the Respondents continue to engage in prohibited conduct. Export data reveals that between March 2022 and October 2023, Izzi Cup received approximately 16 shipments of aircraft parts worth a total of $226,000. Similarly, export data shows that between April 2022 and March 2023, Lufeng received approximately 22 shipments worth a total of $388,000. Likewise, export data indicates that between July 2022 and February 2023, Hong Fan received approximately 27 shipments worth a total of $245,000.

Moreover, Russian import data reveals that between February 2023 and December 2023, SkyTechnic received approximately 259 imports, the majority of which consisted of U.S. aircraft parts. Lastly, import data shows that between January 2023 and May 2023, Pobeda received approximately 1,422 shipments, worth a total of $1.5 million, at the same Russian address as SkyTechnic. Most of the items contained within the shipments were manufactured by U.S. aircraft parts manufacturers.

Furthermore, elements of this procurement network appear to be unresponsive to or unmoved by repeated outreach by the U.S. Department of Commerce. For example, after outreach to Izzi Cup via email during February and March 2023 to verify a shipment of U.S.-origin starter generators classified under ECCN 9A991 (a classification used for aircraft parts), the Department determined Izzi Cup to be an unreliable recipient of U.S.-origin items. The Department has also determined that Lufeng is an unreliable recipient of U.S.-origin items. This determination was based on a July 2023 end use check by BIS, in which a Hong Kong based U.S. Export Control Officer contacted Lufeng twice to schedule a meeting to verify exports of controlled items from the United States, and subsequently conducted an in-person visit of Lufeng's registered address during which Lufeng failed to provide information regarding the disposition of the controlled items.

III. Findings

Under the applicable standard set forth in section 766.24 of the Regulations and my review of the entire record, I find that the evidence presented by BIS convincingly demonstrates that the Respondents have acted in violation of the Regulations; that such violations have been significant and deliberate; and that given the foregoing and the nature of the matters under investigation, there is a likelihood of imminent violations. Therefore, the TDO is necessary in the public interest to prevent imminent violation of the Regulations and to give notice to companies and individuals in the United States and abroad that they should avoid dealing with the Respondents, in connection with export and reexport transactions involving items subject to the Regulations and in connection with any other activity subject to the Regulations.

IV. Order

It is therefore ordered:

First, SkyTechnic, Kiyevskoye Shosse 22-Y, Moskovsky Settlement, Moscow, Russia 108811; Skywind International Limited, Room 2403A 24/F Lippo CTR Tower One, 89 Queensway Admiralty, Hong Kong; Hong Fan International, Shop 102, Level 1, One Exchange Square, Hong Kong, and Room A 11/F Henfa Commercial Building, 348 Lockhart Road, Hong Kong, and Vistra Corporate Services Centre, Wickhams Cay II, Road Town, Tortola, British Virgin Islands; Lufeng Limited, Room A 11/F Henfa Commercial Building, 348 Lockhart Road, Hong Kong, and Vistra Corporate Services Centre, Wickhams Cay II, Road Town, Tortola, British Virgin Islands; Unical dis Ticaret Ve Lojistik JSC, 34140 Zeytinlik Mh. Halcki Sk, Iten Han Gue Carsi Blok No 28/58, Bakirkoy, Istanbul, Turkey, and, Room A 11/F Henfa Commercial Building, 348 Lockhart Road, Hong Kong; Izzi Cup DOO, Koste Cukia 14, Zemun 200915, Serbia, and Jl.Danau Tondano No. 55, 80228 Sanur—Bali, Indonesia; Alexey Sumchenko, Hong Kong; Anna Shumakova, Russia, and Branimir and Danijela Salevic, Koste Cukia 14, Zemun 200915, Serbia and Jl.Danau Tondano, No.55 80228, Sanur—Bali Indonesia, when acting for or on their behalf, any successors or assigns, agents, or employees may not, directly or indirectly, participate in any way in any transaction involving any commodity, software or technology (hereinafter collectively referred to as “item”) exported or to be exported from the United States that is subject to the EAR, or in any other activity subject to the EAR including, but not limited to:

A. Applying for, obtaining, or using any license (except directly related to safety of flight), license exception, or export control document;

B. Carrying on negotiations concerning, or ordering, buying, receiving, using, selling, delivering, storing, disposing of, forwarding, transporting, financing, or otherwise servicing in any way, any transaction involving any item exported or to be exported from the United States that is subject to the EAR except directly related to safety of flight and authorized by BIS pursuant to section 764.3(a)(2) of the Regulations, or engaging in any other activity subject to the EAR except directly related to safety of flight and authorized by BIS pursuant to section 764.3(a)(2) of the Regulations; or

C. Benefitting in any way from any transaction involving any item exported or to be exported from the United States that is subject to the EAR, or from any other activity subject to the EAR except directly related to safety of flight and authorized by BIS pursuant to section 764.3(a)(2) of the Regulations.

Second, that no person may, directly or indirectly, do any of the following:

A. Export, reexport, or transfer (in-country) to or on behalf of the Respondents any item subject to the EAR except directly related to safety of flight and authorized by BIS pursuant to section 764.3(a)(2) of the Regulations;

B. Take any action that facilitates the acquisition or attempted acquisition by the Respondents of the ownership, possession, or control of any item subject to the EAR that has been or will be exported from the United States, including financing or other support activities related to a transaction whereby the Respondents acquires or attempts to acquire such ownership, possession or control except directly related to safety of flight and authorized by BIS pursuant to section 764.3(a)(2) of the Regulations;

C. Take any action to acquire from or to facilitate the acquisition or attempted acquisition from the Respondents of any item subject to the EAR that has been exported from the United States except directly related to safety of flight and authorized by BIS pursuant to section 764.3(a)(2) of the Regulations;

D. Obtain from the Respondents in the United States any item subject to the EAR with knowledge or reason to know that the item will be, or is intended to be, exported from the United States except directly related to safety of flight and authorized by BIS pursuant to section 764.3(a)(2) of the Regulations; or

E. Engage in any transaction to service any item subject to the EAR that has been or will be exported from the United States and which is owned, possessed or controlled by the Respondents, or service any item, of whatever origin, that is owned, possessed or controlled by the Respondents if such service involves the use of any item subject to the EAR that has been or will be exported from the United States except directly related to safety of flight and authorized by BIS pursuant to section 764.3(a)(2) of the Regulations. For purposes of this paragraph, servicing means installation, maintenance, repair, modification, or testing.

Third, that, after notice and opportunity for comment as provided in section 766.23 of the EAR, any other person, firm, corporation, or business organization related to Respondents by ownership, control, position of responsibility, affiliation, or other connection in the conduct of trade or business may also be made subject to the provisions of this Order.

In accordance with the provisions of section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of section 766.24(d) of the EAR, BIS may seek renewal of this Order by filing a written request not later than 20 days before the expiration date. A renewal request may be opposed by the Respondents as provided in section 766.24(d), by filing a written submission with the Assistant Secretary of Commerce for Export Enforcement, which must be received not later than seven days before the expiration date of the Order.

A copy of this Order shall be provided to the Respondents and shall be published in the Federal Register.

This Order is effective immediately and shall remain in effect for 180 days.

Matthew S. Axelrod,
Assistant Secretary of Commerce for Export Enforcement.

[FR Doc. 2024-13258 Filed 6-14-24; 8:45 am]

BILLING CODE 3510-DT-P